DEPARTMENT OF LABOR

Employment and Training Administration

[TA-W-62,076]

Ametek, Inc., National Controls Corporation, Instrumentation and Specialty Controls Division, Including On-Site Leased Workers From Manpower, Select Remedy, Clear Staff, Staff Force, Hipp, Staffing Network and Westaff West Chicago, IL; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on September 18, 2007, applicable to workers of Ametek, Inc., instrumentation and Specialty Controls Division, including on-site leased workers from Manpower, Select Remedy, and Clear Staff, West Chicago, Illinois. The notice was published in the Federal Register on October 3, 2007 (72 FR 56384).

At the request of the petitioner, the Department reviewed the certification for workers of the subject firm. The workers are engaged in the production of electronic controls for food service equipment.

New information shows that workers leased workers from Staff Force, HIPP, Staffing Network and Westaff were employed on-site at the West Chicago, Illinois location of Ametek, Inc., National Controls Corporation, Instrumentation and Specialty Controls Division. The Department has determined that these workers were sufficiently under the control of Ametek, Inc., National Controls Corporation, Instrumentation and Specialty Controls Division to be considered leased workers.

Based on these findings, the Department is amending this certification to include workers leased from the above mentioned firms working on-site at the West Chicago, Illinois location of the subject firm and to include the name of the subject firm in its' entirety.

The intent of the Department's certification is to include all workers employed at Ametek, Inc., National Controls Corporation, Instrumentation & Specialty Controls Division, West Chicago, Illinois who were adversely affected by a shift in production of electronic controls for food service equipment to Mexico.

The amended notice applicable to TA-W-62,076 is hereby issued as follows:

All workers of Ametek, Inc., National Controls Corporation, Instrumentation and Specialty Controls Division, including on-site leased workers of Manpower, Select Remedy, Clear Staff, Staff Force, HIPP, Staffing Network and Westaff, West Chicago, Illinois, who became totally or partially separated from employment on or after April 14, 2007, through September 18, 2009, are eligible to apply for adjustment assistance under Section 223 of the Trade Act of 1974, and are also eligible to apply for alternative trade adjustment assistance under Section 246 of the Trade Act of 1974.

Signed at Washington, DC this 14th day of November 2008.
Linda G. Poole,
Certifying Officer, Division of Trade Adjustment Assistance.

[FR Doc. E8-27931 Filed 11-24-08; 8:45 am]

BILLING CODE 4510-FN-P